DEPARTMENT OF COMMERCE

Bureau of Industry and Security

[Docket Number: 18-BIS-0001]

In the Matter of: Pouran Aazad, a.k.a. Pouran Azad, a.k.a. Pourandokt Aazad, a.k.a Pourandokt Azad, 27333 Ursula Lane, Los Altos Hills, CA 94022; Sadr Emad-Vaez, a.k.a. Seid Sadredin Emad Vaez 27333 Ursula Lane, Los Altos Hills, CA 94022; Ghareh Sabz Co., a.k.a. Ghare Sabz Co., a.k.a. GHS Technology, No. 446 Farjam St., Resalat Square, Tehran, Iran and No. 25, East Farjam Ave., Resalat Square, Tehran, Iran, Respondents; Order Relating to Pouran Aazad, Sadr Emad-Vaez and Ghareh Sabz Co.

The Bureau of Industry and Security, U.S. Department of Commerce (“BIS”), has notified Pouran Aazad, a.k.a. Pouran Azad, a.k.a. Pourandokt Aazad, a.k.a. Pourandokt Azad (“Aazad”), Sadr Emad-Vaez, a.k.a. Seid Sadredin Emad Vaez (“Emad-Vaez”), and Ghareh Sabz Co., a.k.a. Ghare Sabz Co., a.k.a. GHS Technology (“Ghareh Sabz Co.”) (collectively “Respondents”) that it has initiated an administrative proceeding against them pursuant to Section 766.3 of the Export Administration Regulations (the “Regulations”),¹ through the issuance of a Charging Letter to Respondents that alleges that Respondents have violated the Regulations.² Aazad and Emad-Vaez are Iranian nationals and naturalized citizens of the United States, with last known addresses in Los Altos Hills, California; Ghareh Sabz Co. is an Iranian company, with last known addresses in Tehran, Iran. Specifically, the charge is:

¹ The Regulations originally issued under the Export Administration Act of 1979, as amended, 50 U.S.C. 4601-4623 (Supp. III 2015) (“the EAA”), which lapsed on August 21, 2001. The President, through Executive Order 13,222 of August 17, 2001 (3 CFR, 2001 Comp. 783 (2002)), which has been extended by successive Presidential Notices, the most recent being that of August 8, 2018 (83 FR 39,871 (Aug. 13, 2018)), continued the Regulations in full force and effect under the International Emergency Economic Powers Act, 50 U.S.C. 1701, et seq. (2012) (“IEEPA”). On August 13, 2018, the President signed into law the John S. McCain National Defense Authorization Act for Fiscal Year 2019, which includes the Export Control Reform Act of 2018, Title XVII, Subtitle B of Public Law 115-232, 132 Stat. 2208 (“ECRA”). While Section 1766 of ECRA repeals the provisions of the EAA (except for three sections which are inapplicable here), Section 1768 of ECRA provides, in pertinent part, that all rules, regulations, orders, and other forms of administrative action that were made or issued under the EAA, including as continued in effect pursuant to IEEPA, and were in effect as of ECRA's date of enactment (August 13, 2018), shall continue in effect according to their terms until modified, superseded, set aside, or revoked through action undertaken pursuant to the authority provided under ECRA.

² The Regulations are currently codified in the Code of Federal Regulations at 15 CFR parts 730-774 (2019). The charged violation occurred in 2012 through 2013. The Regulations governing the violation at issue are found in the 2012 through 2013 versions of the Code of Federal Regulations (15 CFR parts 730-774 (2012-2013)). The 2019 Regulations set forth the procedures that apply to this matter.

Charge 1 15 CFR 764.2(d)—Conspiracy To Export an Item From the United States to Iran Without the Required U.S. Government Authorization

1. Beginning as early as in or around November 2012, and continuing at least until on or about April 26, 2013, Aazad, Emad-Vaez, and Ghareh Sabz Co. conspired and acted in concert with others, known and unknown, to violate the Regulations and to bring about an act or acts that constitute a violation of the Regulations. The purpose of the conspiracy was to evade the long-standing and well-known U.S. embargo against Iran by purchasing a U.S.-origin micro-drill press for export to Iran and causing the export of this item to Iran, via transshipment through the United Arab Emirates (“UAE”), without the required U.S. Government authorization.

2. Based upon information and belief, Aazad and Emad-Vaez were at all times pertinent hereto Iranian nationals and naturalized citizens of the United States who lived variously in both Tehran, Iran and Northern California. Aazad held herself out as the Chief Financial Officer of Ghareh Sabz Co., while Emad-Vaez described himself as the company's founder and Chief Executive Officer.

3. The conspiracy led to the unauthorized attempted export of a highly-accurate micro drill press with a video edge finder, process inspection camera, and spray mister system from the United States to Iran, via transshipment through the UAE. The micro drill press is subject to the Regulations, designated as EAR99,³ and valued at $15,199. This item also is subject to the Iranian Transactions and Sanctions Regulations (“ITSR”), administered by the U.S. Department of the Treasury's Office of Foreign Assets Control (“OFAC”).⁴

³ EAR99 is a designation for items subject to the Regulations but not listed on the Commerce Control List. 15 CFR 734.3(c) (2012-2013).

⁴ See 31 CFR 560 (2012-2013). The ITSR were known as the Iranian Transactions Regulations (“ITR”) until October 22, 2012. By final rule published and effective on that date, OFAC changed the heading of 31 CFR part 560 from the “Iranian Transactions Regulations” to the “Iranian Transactions and Sanctions Regulations,” amended the renamed ITSR, and reissued them in their entirety. See 77 FR 64,664 (Oct. 22, 2012). 31 CFR part 560 remained (and remains) the same in pertinent part.

4. Section 746.7 of the Regulations has long provided, including at all times pertinent hereto, that no person may engage in the export or reexport of any item subject to both the Regulations and the ITSR without authorization from OFAC. 15 CFR 746.7 (2012-2013, 2018). Section 560.204 of the ITR in turn has long prohibited, including at all times pertinent hereto, the unauthorized export, reexport, sale or supply, directly or indirectly, of any item from the United States to Iran. This broad prohibition includes the export, reexport, sale, or supply of any item from the United States to a third country, such as the UAE, undertaken with knowledge or reason to know that the item was intended for supply, transshipment, or reexportation, directly or indirectly, to Iran. 31 CFR 560.204 (2012-2013).⁵

⁵ See note 4, supra.

5. As further detailed below, Respondents sought out a U.S.-origin drill press for purchase and export to Iran. On or about November 12, 2012, in response to a request from Ghareh Sabz Co., the U.S. manufacturer of the micro drill press sent Ghareh Sabz Co. a price quote for the micro drill press and its parts and components. That same day, the Ghareh Sabz Co. employee forwarded the quote and specifications to another Ghareh Sabz Co. employee and to Aazad and Emad-Vaez, with the message that “The forwarded documents include a quotation for Micro-Drill Machine!”

6. On or about November 17, 2012, a purchasing agent at Ghareh Sabz Co. sent the U.S. manufacturer instructions for the order along with requests for a price discount and promises to send a purchase order. The same purchasing agent later sent the U.S. manufacturer a purchase order, dated February 12, 2013, on Ghareh Sabz Co. letterhead. The purchase order listed the drill press and related parts and components being acquired, listed the U.S. manufacturer as the supplier, and listed Ghareh Sabz. Co. as the consignee. The purchase order was approved and signed by Aazad.

7. In furtherance of the conspiracy and in an effort to avoid detection by law enforcement, a Ghareh Sabz Co. purchasing agent sent an email to the U.S. manufacturer, on or about March 2, 2013, stating: “Since we are not able to receive the cargo directly, please arrange to send it to Dubai.” The purchasing agent also provided the U.S. manufacturer the address and contact information for a shipping and forwarding company in Dubai, UAE, and added that this UAE shipping and forwarding company should be listed as the buyer “in all the documents (invoice, packing list, certificate of origin, Bill of lading)[.]” (Parenthetical in original). On or about March 18, 2013, the Ghareh Sabz Co. purchasing agent sent the U.S. manufacturer a similar email, stating: “Since we can not receive the cargo in Iran please send it to Dubai . . . [p]lease note that [the UAE] shipping and forwarding Co. is the buyer in all the documents (invoice, packing list, certificate of origin & billing of lading) & you should send complete documents to them so they will be able to import the machine in Dubai. Then they will export it to Iran.” (Parenthetical in original). On or about that same date, Aazad and Emad-Vaez received an email confirming a wire transfer on behalf of Ghareh Sabz Co. to the U.S. manufacturer in the amount of $15,199.

8. On or about April 22, 2013, in furtherance of the scheme to unlawfully export the item to Iran through the UAE, Ghareh Sabz Co. directed the U.S. manufacturer to change shipping documentation in order to list a UAE general trading company as the consignee so that the export could proceed.

9. On or about April 26, 2013, BIS, upon learning of the planned export, ordered the item detained at a warehouse outside San Francisco International Airport. No authorization to export the item had been sought or obtained from OFAC.

10. In so doing, Respondents violated Section 764.2(d) of the Regulations, for which they are jointly and severally liable.

Whereas, BIS and Respondents have entered into a Settlement Agreement pursuant to Section 766.18(b) of the Regulations, whereby they agreed to settle this matter in accordance with the terms and conditions set forth therein;

Whereas, I have approved of the terms of such Settlement Agreement; and

Whereas, in doing so, I have taken into consideration the plea agreements that Respondents have entered into with the United States Attorney's Office for the Northern District of California (the “plea agreements”).

It is therefore ordered:

First, Respondents shall be assessed a civil penalty in the amount of $300,000, the payment of which shall be made to the U.S. Department of Commerce within 30 days of the date of this Order. Respondents are jointly and severally liable for the payment of this civil penalty. Respondents' compliance in full with all of the provisions of the Settlement Agreement and this Order, including full and timely payment of this civil penalty, and their compliance in full with their plea agreements and any sentences imposed against them following or upon their guilty pleas and convictions, are hereby made conditions to any license, license exception, permission, or privilege that may otherwise be granted or be available to Respondents under the Regulations following expiration of the denial of export privileges set forth below.

Second, that, pursuant to the Debt Collection Act of 1982, as amended (31 U.S.C. 3701-3720E (2012)), the civil penalty owed under this Order accrues interest as more fully described in the attached Notice, and if payment is not made by the due date specified herein, Respondents will be assessed, in addition to the full amount of the civil penalty and interest, a penalty charge and an administrative charge, as more fully described in the attached Notice.

Third, for a period of ten (10) years from the date of this Order, Pouran Aazad, a.k.a. Pouran Azad, a.k.a. Pourandokt Aazad, a.k.a. Pourandokt Azad, with a last known address of 27333 Ursula Lane, Los Altos Hills, CA 94022; Sadr Emad-Vaez, a.k.a. Seid Sadredin Emad Vaez, with a last known address of 27333 Ursula Lane, Los Altos Hills, CA 94022; and Ghareh Sabz Co., a.k.a. Ghare Sabz Co., a.k.a. GHS Technology, with last known addresses of No. 446 Farjam St., Resalat Square, Tehran, Iran and No. 25 Farjam Ave., Resalat Square, Tehran, Iran, and when acting for or on their behalf, their successors, assigns, directors, officers, employees, representatives, and agents (each a “Denied Person” and collectively the “Denied Persons”), may not, directly or indirectly, participate in any way in any transaction involving any commodity, software or technology (hereinafter collectively referred to as “item”) exported or to be exported from the United States that is subject to the Regulations, or in any other activity subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Fourth, no person may, directly or indirectly, do any of the following:

A. Export or reexport to or on behalf of a Denied Person any item subject to the Regulations;

B. Take any action that facilitates the acquisition or attempted acquisition by a Denied Person of the ownership, possession, or control of any item subject to the Regulations that has been or will be exported from the United States, including financing or other support activities related to a transaction whereby a Denied Person acquires or attempts to acquire such ownership, possession or control;

C. Take any action to acquire from or to facilitate the acquisition or attempted acquisition from a Denied Person of any item subject to the Regulations that has been exported from the United States;

D. Obtain from a Denied Person in the United States any item subject to the Regulations with knowledge or reason to know that the item will be, or is intended to be, exported from the United States; or

E. Engage in any transaction to service any item subject to the Regulations that has been or will be exported from the United States and which is owned, possessed or controlled by a Denied Person, or service any item, of whatever origin, that is owned, possessed or controlled by a Denied Person if such service involves the use of any item subject to the Regulations that has been or will be exported from the United States. For purposes of this paragraph, servicing means installation, maintenance, repair, modification or testing.

Fifth, after notice and opportunity for comment as provided in Section 766.23 of the Regulations, any person, firm, corporation, or business organization related to a Denied Person by ownership, control, position of responsibility, affiliation, or other connection in the conduct of trade or business may also be made subject to the provisions of this Order.

Sixth, Respondents shall not take any action or make or permit to be made any public statement, directly or indirectly, denying the allegations in the Charging Letter or this Order.

Seventh, the Charging Letter, the Settlement Agreement, and this Order shall be made available to the public.

Eighth, this Order shall be served on Respondents, and shall be published in the Federal Register.

This Order, which constitutes the final agency action in this matter, is effective immediately.

Issued this 8th day of July 2019.
Douglas R. Hassebrock,
Director, Office of Export Enforcement, performing the non-exclusive functions and duties of the Assistant Secretary of Commerce for Export Enforcement.

[FR Doc. 2019-15055 Filed 7-15-19; 8:45 am]

BILLING CODE 3510-33-P